ENVIRONMENTAL PROTECTION AGENCY

40 CFR Part 300

[EPA-HQ-SFUND-1990-0011; FRL-9676-7]

National Oil and Hazardous Substances Pollution Contingency Plan; National Priorities List: Partial Deletion of the Ellsworth Air Force Base Superfund Site

AGENCY: Environmental Protection Agency.

ACTION: Final rule.

SUMMARY: The Environmental Protection Agency (EPA) Region 8 announces the deletion of Operable Unit (OU) 1—the former Fire Protection Training Area (FPTA), along with two other Areas of Concern (AOC): the Gateway Lake Ash Study Area and the Pride Hangar Study Area of the Ellsworth Air Force Base (AFB) from the National Priorities List (NPL). The NPL, promulgated pursuant to section 105 of the Comprehensive Environmental Response, Compensation, and Liability Act (CERCLA) of 1980, as amended, is an appendix of the National Oil and Hazardous Substances Pollution Contingency Plan (NCP). This partial deletion pertains to the surface soil, unsaturated subsurface soil, surface water and sediments of Operable Unit (OU) 1, the Gateway Lake Ash Study Area, and the Pride Hangar Study Area. The groundwater medium associated with OU-11, Basewide Groundwater will remain on the NPL. The EPA and the State of South Dakota, through the Department of Environment and Natural Resources, have determined that all appropriate response actions under CERCLA, other than five-year reviews have been completed. However, the deletion of these parcels does not preclude future actions under Superfund.

DATES: Effective Date: This action is effective May 25, 2012.

ADDRESSES: Mr. John Dalton, Community Involvement Coordinator (8OC), U.S. EPA, Region 8, 1595 Wynkoop St., Denver, CO 80202; telephone number 303-312-6601; fax number 303-312-6961; email address: dalton.john@epamail.epa.gov.

EPA has established a docket for this action under Docket Identification No. EPA-HQ-SFUND-1990-0011. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

U.S. EPA, Region 8 Library, 1595 Wynkoop St., Denver, CO 80202, Monday through Thursday, 8:00 a.m. to 4:00 p.m.

South Dakota Air & Space Museum, 2890 Davis, Bldg 5208, Ellsworth AFB, SD 57706 Monday through Friday, 7:00 a.m. to 4:00 p.m.

FOR FURTHER INFORMATION CONTACT: C. Mark Aguilar, Remedial Project Manager, U.S. Environmental Protection Agency, Region 8, 8EPR-F 1595 Wynkoop St., Denver, CO 80202, (303) 312-6251, email: aguilar.mark@epa.gov.

SUPPLEMENTARY INFORMATION: The portion of the site to be deleted from the NPL is: Operable Unit (OU) 1—the former Fire Protection Training Area (FPTA), along with two other Areas of Concern (AOC): the Gateway Lake Ash Study Area and the Pride Hangar Study Area of the Ellsworth Air Force Base, Rapid City, South Dakota. A Notice of Intent for Partial Deletion for this Site was published in the Federal Register on March 13, 2012.

The closing date for comments on the Notice of Intent for Partial Deletion was April 12, 2012. No public comments were received and EPA still believes the partial deletion action is appropriate.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: May 8, 2012.
James B. Martin,
Region Administrator, Region 8.

[FR Doc. 2012-12806 Filed 5-24-12; 8:45 am]

BILLING CODE 6560-50-P